DEPARTMENT OF DEFENSE

Defense Acquisition Regulations System

48 CFR Parts 217 and 225

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective November 20, 2015.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Updates point of contact information for the Deputy Director, Defense Procurement and Acquisition Policy (Contract Policy and International Contracting) at DFARS 217.7402(b) by providing an email address in lieu of a physical mailing address; and

2. Removes a reference to Procedures, Guidance, and Information (PGI) at DFARS 225.7703-3(d).

List of Subjects in 48 CFR 217 and 225

Government procurement.

Jennifer L. Hawes,
Editor, Defense Acquisition Regulations System.

Therefore, 48 CFR parts 217 and 225 are amended as follows:

1. The authority citation for 48 CFR parts 217 and 225 continues to read as follows:

Authority: 41 U.S.C. 1303 and 48 CFR chapter 1.

PART 217—SPECIAL CONTRACTING METHODS

217.7402 [Amended]

2. In section 217.7402, amend paragraph (b) by—

a. Adding “electronically via email” after “channels,”; and

b. Removing “3060 Defense Pentagon, Washington, DC 20301-3060” and adding “at osd.pentagon.ousd-atl.mbx.cpic@mail.mil” in its place.

PART 225—SPECIAL CONTRACTING METHODS

225.7703-3 [Amended]

3. In section 225.7703-3, remove paragraph (d).

[FR Doc. 2015-29559 Filed 11-19-15; 8:45 am]

BILLING CODE 5001-06-P